DEPARTMENT OF COMMERCE

International Trade Administration

[A-570-156, A-588-881]

Aluminum Lithographic Printing Plates From the People's Republic of China and Japan: Postponement of Preliminary Determinations in the Less-Than-Fair-Value Investigations

AGENCY: Enforcement and Compliance, International Trade Administration, Department of Commerce.

DATES: Applicable February 14, 2024.

FOR FURTHER INFORMATION CONTACT: Benito Ballesteros (the People's Republic of China (China)) and Caroline Carroll (Japan), AD/CVD Operations, Office IX, Enforcement and Compliance, International Trade Administration, U.S. Department of Commerce, 1401 Constitution Avenue NW, Washington, DC 20230; telephone: (202) 482-7425 and (202) 482-4948, respectively.

SUPPLEMENTARY INFORMATION:

Background

On October 18, 2023, the U.S. Department of Commerce (Commerce) initiated less-than-fair-value (LTFV) investigations of imports of aluminum lithographic printing plates (printing plates) from China and Japan.¹ Currently, the preliminary determinations are due no later than March 6, 2024.

¹ See Aluminum Lithographic Printing Plates from the People's Republic of China and Japan: Initiation of Less-Than-Fair-Value Investigations, 88 FR 73316 (October 25, 2023).

Postponement of Preliminary Determinations

Section 733(b)(1)(A) of the Tariff Act of 1930, as amended (the Act), requires Commerce to issue the preliminary determination in a LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 6, 2024, the petitioner ² submitted a timely request that Commerce postpone the preliminary determinations in these LTFV investigations, in accordance with 19 CFR 351.205(b)(2).³ The petitioner requests postponement to allow Commerce adequate time to issue supplemental questionnaires and to conduct a thorough analysis in these investigations.⁴

² The petitioner is the Eastman Kodak Company.

³ See Petitioner's Letters, “Less-Than-Fair-Value Investigation of Aluminum Lithographic Printing Plates from the People's Republic of China—Petitioner's Request for Postponement of Preliminary Determination,” dated February 6, 2024; and “Less-Than-Fair-Value Investigation of Aluminum Lithographic Printing Plates from Japan—Petitioner's Request for Postponement of Preliminary Determination,” dated February 6, 2024.

⁴ Id.

For the reasons stated above and because there are no compelling reasons to deny the request, Commerce, in accordance with section 733(c)(1)(A) of the Act, is postponing the deadline for these preliminary determinations by 50 days (i.e., 190 days after the date on which these investigations were initiated). As a result, Commerce will issue its preliminary determinations no later than April 25, 2024. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: February 8, 2024.
Ryan Majerus,
Deputy Assistant Secretary for Policy and Negotiations, performing the non-exclusive functions and duties of the Assistant Secretary for Enforcement and Compliance.

[FR Doc. 2024-03071 Filed 2-13-24; 8:45 am]

BILLING CODE 3510-DS-P